DEPARTMENT OF TRANSPORTATION

Federal Aviation Administration

14 CFR Part 39

[Docket No. FAA-2004-19866; Directorate Identifier 2004-NM-25-AD]

RIN 2120-AA64

Airworthiness Directives; Boeing Model 767-200, -300, and -300F Series Airplanes

AGENCY: Federal Aviation Administration (FAA), DOT.

ACTION: Notice of proposed rulemaking (NPRM).

SUMMARY: The FAA proposes to adopt a new airworthiness directive (AD) for certain Boeing Model 767-200, -300, and -300F series airplanes. This proposed AD would require verifying the part and serial numbers of certain main landing gear (MLG) bogie beam pivot pins; replacing those pivot pins with new or overhauled pivot pins if necessary; and ultimately replacing all pivot pins with new, improved pivot pins. This proposed AD is prompted by reports indicating that numerous fractures of the MLG bogie beam pivot pin have been found and that some pivot pins may have had improper rework during manufacture. We are proposing this AD to prevent fracture of the MLG bogie beam pivot pin, which could lead to possible loss of the MLG truck during takeoff or landing and consequent loss of control of the airplane.

DATES: We must receive comments on this proposed AD by January 31, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., Room PL-401, on the plaza level of the Nassif Building, Washington, DC. This docket number is FAA-2004-19866; the directorate identifier for this docket is 2004-NM-25-AD.

FOR FURTHER INFORMATION CONTACT: Technical information: Suzanne Masterson, Aerospace Engineer, Airframe Branch, ANM-120S, FAA, Seattle Aircraft Certification Office, 1601 Lind Avenue, SW., Renton, Washington 98055-4056; telephone (425) 917-6441; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19866; Directorate Identifier 2004-NM-25-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports indicating that numerous fractures of the main landing gear (MLG) bogie beam pivot pin have been found on certain Boeing Model 767-200 and -300 series airplanes. In four cases, a portion of the pin and the uplock fitting departed the airplane. The airplane manufacturer determined that the fractures are probably due to cracks initiating in areas of heat damage and propagating due to fatigue. Also, one supplier of pivot pins to the airplane manufacturer has reported that some pivot pins may have had improper rework during manufacture, which could have caused heat damage, cracks, or other defects. Fracture of the pivot pin, if not corrected, could lead to possible loss of the MLG truck during takeoff or landing and consequent loss of control of the airplane.

The MLG on certain Model 767-300F series airplanes is identical to that on the affected Model 767-200 and -300 series airplanes. Therefore, certain Model 767-300F series airplanes may be subject to the same unsafe condition revealed on the Model 767-200 and -300 series airplanes.

Relevant Service Information

We have reviewed Boeing Alert Service Bulletin 767-32A0202, dated July 22, 2004. The service bulletin describes procedures for a check of the part numbers and serial numbers of certain MLG bogie beam pivot pins and replacing discrepant pivot pins with new pins or overhauled pins that include a chrome plate strip as part of the pin overhaul, and for reporting the inspection results and numbers of suspect pivot pins to Boeing.

We have also reviewed Boeing Service Bulletin 767-32A0199, Revision 1, dated July 22, 2004. The service bulletin describes procedures for replacing the MLG bogie beam pivot pin with a new, improved pivot pin. The service bulletin specifies a compliance time for these actions of 6-10 years since the pivot pin was new or overhauled (depending upon airplane group), or 18 months after the original issue date of the service bulletin, whichever occurs later.

Accomplishing the actions in Service Bulletin 767-32A0199, Revision 1, eliminates the need to do the actions in Service Bulletin 767-32A0202.

Accomplishing the actions specified in the service information is intended to adequately address the unsafe condition.

FAA's Determination and Requirements of the Proposed AD

We have evaluated all pertinent information and identified an unsafe condition that is likely to exist or develop on other airplanes of this same type design. Therefore, we are proposing this AD, which would require replacement of the MLG bogie beam pivot pin with a new, improved pivot pin. The proposed AD would require you to use the service information described previously to perform these actions, except as discussed under “Difference Between the Proposed AD and Service Bulletins.” The proposed AD would also require sending the inspection results to the manufacturer.

Difference Between the Proposed AD and Service Bulletins

The referenced service bulletins specify compliance times relative to the date of the original issue of the service bulletins; however, this proposed AD would require compliance times relative to the effective date of the AD.

Costs of Compliance

This proposed AD would affect about 374 airplanes of U.S. registry and 857 airplanes worldwide.

The proposed inspection would take about 1 work hour per airplane, at an average labor rate of $65 per work hour. Based on these figures, the estimated cost of the proposed inspection for U.S. operators is $55,705, or $65 per airplane.

The proposed pin replacement would take about 12 work hours per airplane, at an average labor rate of $65 per work hour. Required parts would cost about $35,134 per airplane. Based on these figures, the estimated cost of the proposed pin replacement for U.S. operators is $13,431,836 or $35,914 per airplane.

Authority for This Rulemaking

The FAA's authority to issue rules regarding aviation safety is found in Title 49 of the United States Code. Subtitle I, section 106, describes the authority of the FAA Administrator. Subtitle VII, Aviation Programs describes in more detail the scope of the agency's authority.

This rulemaking is promulgated under the authority described in subtitle VII, part A, subpart III, section 44701, “General requirements.” Under that section, the FAA is charged with promoting safety flight of civil aircraft in air commerce by prescribing regulations for practices, methods, and procedures the Administrator finds necessary for safety in air commerce. This regulation is within the scope of that authority because it addresses an unsafe condition that is likely to exist or develop on products identified in this proposed AD.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19866; Directorate Identifier 2004-NM-25-AD.

Comments Due Date

(a) The Federal Aviation Administration (FAA) must receive comments on this AD action by January 31, 2005.

Affected ADs

(b) None.

Applicability

(c) This AD applies to Boeing Model 767-200, -300, and -300F series airplanes, certificated in any category, as specified in Boeing Alert Service Bulletin 767-32A0202, and Boeing Alert Service Bulletin 767-32A0199, Revision 1, both dated July 22, 2004.

Unsafe Condition

(d) This AD was prompted by reports indicating that numerous fractures of the main landing gear (MLG) bogie beam pivot pin have been found and that some pivot pins may have had improper rework during manufacture. We are issuing this AD to prevent fracture of the MLG bogie beam pivot pin, which could lead to possible loss of the MLG truck during takeoff or landing and consequent loss of control of the airplane.

Compliance

(e) You are responsible for having the actions required by this AD performed within the compliance times specified, unless the actions have already been done.

Pin Inspection, Short-Term Replacement, and Discrepancy Reporting

(f) Within 6 months after the effective date of this AD, do an inspection of the part and serial numbers of the MLG bogie beam pivot pin in accordance with the Accomplishment Instructions of Boeing Alert Service Bulletin 767-32A0202, dated July 22, 2004.

(1) If the serial number of the pivot pin contains the letters “MA” or “MAM”, no further action is required by this paragraph.

(2) If any pivot pin has a part and serial number as listed in figure 1 of the service bulletin, prior to further flight, remove and overhaul the pivot pin, or replace it with a new pivot pin or an overhauled pivot pin that includes a chrome plate strip as part of the pin overhaul; in accordance with the service bulletin.

(g) If any pivot pin has a part and serial number as listed in figure 1 of the service bulletin, submit a report of the inspection required by paragraph (f) of this AD to the Manager, Airline Support, Boeing Commercial Airplanes, P.O. Box 3707, Seattle, Washington 98124-2207, at the applicable time specified in paragraph (g)(1) or (g)(2) of this AD. The report must include the part and serial number of the pivot pin, a description of any discrepancies found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was done before the effective date of this AD: Submit the report within 30 days after the effective date of this AD.

Final Pin Replacement

(h) Replace any MLG bogie beam pivot pin having part number (P/N) 161T1145-2, -3, or -4, with a new, improved pivot pin having P/N 161T1145-5, in accordance with the Accomplishment Instructions of Boeing Alert Service Bulletin 767-32A0199, Revision 1, dated July 22, 2004. Do the replacement within the applicable compliance times specified in paragraph 1.E., “Compliance,” of the service bulletin; except, where the service bulletin specifies a compliance time after the original issue date of the service bulletin, this AD specifies compliance time after the effective date of this AD.

(i) Airplanes on which the replacement required by paragraph (h) of this AD is performed within the compliance time specified in paragraph (f) of this AD are not required to accomplish the inspection required by paragraph (f).

Final Pin Replacement per Previous Issue of Service Bulletin

(j) Replacing any pivot pin before the effective date of this AD in accordance with Boeing Alert Service Bulletin 767-32A0199, dated April 8, 2004, is considered acceptable for compliance with the corresponding action specified in this AD.

Part Installation

(k) As of the effective date of this AD, no person may install on any airplane a MLG bogie beam pivot pin having part number (P/N) 161T1145-2, -3, or -4, except in accordance with paragraph (f)(2) of this AD.

Alternative Methods of Compliance (AMOCs)

(l)(1) The Manager, Seattle Aircraft Certification Office (ACO), FAA, has the authority to approve AMOCs for this AD, if requested using the procedures found in 14 CFR 39.19.

(2) An AMOC that provides an acceptable level of safety may be used for any repair required by this AD, if it is approved by a Boeing Company Designated Engineering Representative who has been authorized by the Manager, Seattle ACO, to make such findings.

Issued in Renton, Washington, on December 6, 2004.
Ali Bahrami,
Manager, Transport Airplane Directorate, Aircraft Certification Service.

[FR Doc. 04-27504 Filed 12-15-04; 8:45 am]

BILLING CODE 4910-13-P